ENVIRONMENTAL PROTECTION AGENCY

[OAR-2003-0097; FRL-7561-8]

Agency Information Collection Activities; Submission to OMB for Review and Approval; Comment Request; Mobile Air Conditioner Retrofitting Program, EPA ICR Number 1774.03, OMB Control Number 2060-0350

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request to renew an existing approved collection. This ICR is scheduled to expire on September 30, 2003. Under OMB regulations, the Agency may continue to conduct or sponsor the collection of information while this submission is pending at OMB. This ICR describes the nature of the information collection and its estimated burden and cost.

DATES: Additional comments may be submitted on or before October 22, 2003.

ADDRESSES: Submit your comments, referencing docket ID number OAR-2003-0097, to (1) EPA online using EDOCKET (our preferred method), by e-mail to a-and-r-Docket@epa.gov, or by mail to: EPA Docket Center, Environmental Protection Agency, Air and Radiation Docket and Information Center, Mail Code 6102T, 1200 Pennsylvania Ave., NW., Washington, DC 20460, and (2) OMB at: Office of Information and Regulatory Affairs, Office of Management and Budget (OMB), Attention: Desk Officer for EPA, 725 17th Street, NW., Washington, DC 20503.

FOR FURTHER INFORMATION CONTACT: Dave Godwin, Global Programs Division, Office of Atmospheric Programs, Mail Code 6205J, Environmental Protection Agency, 1200 Pennsylvania Ave., NW., Washington, DC 20460; telephone number: (202) 564-3517; fax number: (202) 565-2155; e-mail address: Godwin.Dave@epa.gov.

SUPPLEMENTARY INFORMATION: EPA has submitted the following ICR to OMB for review and approval according to the procedures prescribed in 5 CFR 1320.12. On June 27, 2003 (68 FR 38322), EPA sought comments on this ICR pursuant to 5 CFR 1320.8(d). EPA received one comment (two are shown on the EDOCKET site; however, one is an exact duplicate of the other). The comment requested clarification on five points; these are addressed individually in the supporting statement.

EPA has established a public docket for this ICR under Docket ID No. OAR-2003-0097, which is available for public viewing at the Air and Radiation Docket and Information Center in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Air and Radiation Docket and Information Center is (202) 566-1742. An electronic version of the public docket is available through EPA Dockets (EDOCKET) at http://www.epa.gov/edocket. Use EDOCKET to submit or view public comments, access the index listing of the contents of the public docket, and to access those documents in the public docket that are available electronically. Once in the system, select “search,” then key in the docket ID number identified above.

Any comments related to this ICR should be submitted to EPA and OMB within 30 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to www.epa.gov/edocket.

Title: Mobile Air Conditioner Retrofitting Program.

Abstract: Section 612 of the Clean Air Act (CAA) requires EPA to promulgate rules making it unlawful to replace any ozone-depleting substance with any substitute that the Administrator determines may present adverse effects to human health or the environment where the Administrator has identified an alternative that (1) reduces the overall risk to human health and the environment, and (2) is currently or potentially available. In 1994, the Significant New Alternatives Policy (SNAP) Program was enacted, enabling the Agency to review available substitutes for ozone-depleting substances and determine their acceptability. The SNAP program includes review of potential alternatives to ozone-depleting refrigerants used for air conditioning motor vehicles. EPA is concerned that the existence of several substitutes in this end-use may increase the likelihood of significant refrigerant cross-contamination and potential failure of both air conditioning systems and recovery/recycling equipment. In addition, continuing the smooth transition to the use of substitutes strongly depends on the continued purity of the recovered, recycled and/or reclaimed R-12 supply. The purpose of this Information Collection Request (ICR) is to estimate the burden associated with the 40 Code of Federal Regulations (CFR) part 82 requirement that service technicians label mobile air conditioners with information about new refrigerants when they retrofit a system. These labels acknowledge that the retrofitting has been completed and that the mobile air conditioner should no longer use chlorofluorocarbon (CFC) refrigerant. In addition, the labels provide essential information to technicians about the specific refrigerant used in the air conditioning system. The following information is required on the label:

• The name and address of the technician and the company performing the retrofit.

• The date of the retrofit.

• The trade name, charge amount, and, when applicable, the numerical designation of the refrigerant as determined under the latest version of Standard 34 of the American Society of Heating, Refrigerating, and Air-conditioning Engineers (ASHRAE), Inc.

• The type, manufacturer, and amount of lubricant used.

• If the refrigerant is or contains an ozone-depleting substance, the phrase “ozone depleter”.

• If the refrigerant displays flammability limits as measured according to latest version of Standard E681 of the American Society for Testing and Materials (ASTM) International, the statement “This refrigerant is FLAMMABLE. Take appropriate precautions.”

This information assists the technician in avoiding service practices that might result in cross-contamination, system failure and/or system performance degradation. Responses to the collection information are mandatory (section 612 of the CAA and 40 CFR part 82).

An agency may not conduct or sponsor, and a person is not required to respond to, a collection of information unless it displays a currently valid OMB control number. The OMB control numbers for EPA's regulations in 40 CFR are listed in 40 CFR part 9 and are identified on the form and/or instrument, if applicable.

Burden Statement: The annual public reporting and recordkeeping burden for this collection of information is estimated to average 5 minutes per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: New and used car dealers, Gas service stations, Top and body repair shops, General automotive repair shops, and Automotive repair shops not elsewhere classified, including air conditioning and radiator specialty shops.

Estimated Number of Respondents: 87,000.

Frequency of Response: Once per and upon retrofit of a motor vehicle air conditioner.

Estimated Total Annual Hour Burden: 83,333 hours.

Estimated Total Annual Cost: $5,933,333, which includes $100,000 annualized capital or O&M costs and $5,833,333 labor costs.

Changes in the Estimates: There is a decrease of 333,334 hours per year in the total estimated burden currently identified in the OMB Inventory of Approved ICR Burdens. The decrease is because the EPA estimates fewer CFC-12 motor vehicle air conditioners will be retrofitted in the next three years than the previous three years.

Dated: September 11, 2003.
Doreen Sterling,
Acting Director, Collection Strategies Division.

[FR Doc. 03-24008 Filed 9-18-03; 12:01 pm]

BILLING CODE 6560-50-P